INTERNATIONAL TRADE COMMISSION

[Investigation No. 337-TA-595]

In the Matter of Certain Dynamic Random Access Memory Devices and Products Containing Same; Notice of Commission Determination Not To Review an Initial Determination Terminating the Investigation on the Basis of a Settlement Agreement

AGENCY: U.S. International Trade Commission.

ACTION: Notice.

SUMMARY: Notice is hereby given that the U.S. International Trade Commission has determined not to review the presiding administrative law judge's (“ALJ”) initial determination (“ID”) (Order No. 19) granting the joint motion to terminate the captioned investigation based on a settlement agreement.

FOR FURTHER INFORMATION CONTACT: Megan M. Valentine, Office of the General Counsel, U.S. International Trade Commission, 500 E Street, SW., Washington, DC 20436, telephone (202) 708-2301. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on March 1, 2007, based on a complaint filed by Renesas. The complaint, as supplemented, alleged violations of section 337 of the Tariff Act of 1930 (19 U.S.C. 1337) in the importation into the United States, the sale for importation, and the sale within the United States after importation of certain dynamic random access memory devices and products containing the same by reason of infringement of certain claims of U.S. Patent Nos. 7,115,344 and 7,116,128. The complaint named as respondents Samsung Electronics Co., Ltd., of Seoul, Korea, and Samsung Electronics America, Inc., of Ridgefield Park, New Jersey (collectively, “Samsung”).

On April 25, 2008, Renesas and Samsung jointly moved to terminate the investigation on the basis of a settlement agreement. On April 28, 2008, the Commission investigative attorney filed a response supporting the motion.

On April 29, 2008, the ALJ issued the subject ID granting the joint motion to terminate the investigation based on a settlement agreement. The ALJ found that the motion complied with the requirements of Commission Rule 210.21 (19 CFR 210.21). The ALJ also concluded that, pursuant to Commission Rule 210.50(b)(2) (19 CFR 210.50(b)(2)), there is no evidence that termination of this investigation will prejudice the public interest. No petitions for review of this ID were filed.

The Commission has determined not to review the ID.

The authority for the Commission's determination is contained in section 337 of the Tariff Act of 1930, as amended (19 U.S.C. 1337), and in section 210.42 of the Commission's Rules of Practice and Procedure (19 CFR 210.42).

By order of the Commission.
Issued: May 13, 2008.
Marilyn R. Abbott,
Secretary to the Commission.

[FR Doc. E8-11197 Filed 5-19-08; 8:45 am]

BILLING CODE 7020-02-P